DEPARTMENT OF JUSTICE

Notice of Lodging of Consent Decree Under the Comprehensive Environmental Response, Compensation, and Liability Act of 1980

Notice is hereby given that on August 2, 2005 a proposed Consent Decree in United States v. Union Pacific Railroad Company, an action under Sections 107 and 113 of the comprehensive Environmental Response, Compensation, and Liability Act of 1980 (“CERCLA”), as amended, 42 U.S.C. 9607 and 9613, was lodged with the United States District Court for the District of Utah, Case No. 2:05CV00650 BD (D. Utah).

In this action, the United States sought the recovery of costs incurred and to be incurred by the United States in response to releases or threatened releases of hazardous substances at and from the Eureka Mills NPL Site located in Eureka, Utah (the “Site”). The United States alleged that the Union Pacific Railroad Company was liable under CERCLA Sections 106 and 107(a)(1) and (2), 42 U.S.C. 906 and 9607(a)(1) and (2), as a past owner of a portion of the Site at the time of disposal and as a present owner of a portion of the Site upon which hazardous substances have been released, for those response costs set forth in CERCLA Section 107(a)(4)(A)-(D), 42 U.S.C. 9607(a)(4)(A)-(D).

The settlement between the United States and the Union Pacific Railroad Company provides that the Union Pacific Railroad Company will implement the remedy for the Upper Eureka Gulch portion of the Site selected by the Environmental Protection Agency (“EPA”) for which the United States has alleged that the Union Pacific Railroad Company was responsible under CERCLA. The Union Pacific Railroad Company will also undertake certain quarry operations on-Site to produce rock and other borrow material needed by EPA for the 2005 and 2006 construction season. EPA estimates that the value of the work to be done by Union Pacific Railroad Company to be excess of $4.3 million. In addition, the Union Pacific Railroad Company will pay $270,690.00 into a special account to compensate EPA for anticipated future response costs.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Union Pacific Railroad Company, DJ#90-11-3-07993/4.

The Consent Decree may be examined at U.S. EPA Region 8, 999 18th Street, Suite 500, Denver, Colorado, 80202. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $18.75 for the Decree (excluding appendices), $33.75 for the Decree with attachments payable to the United States Treasury.

Robert Brook,
Assistant Chief, Environmental Enforcement Section, Environment and Natural Resources Division.

[FR Doc. 05-16852 Filed 8-24-05; 8:45 am]

BILLING CODE 4410-15-M